DEPARTMENT OF VETERANS AFFAIRS

Research Advisory Committee on Gulf War Veterans' Illnesses, Notice of Meeting

The Department of Veterans Affairs (VA) gives notice under Public Law 92-463 (Federal Advisory Committee Act) that the Research Advisory Committee on Gulf War Veterans' Illnesses will meet on June 18-19, 2012, in room 109 at the Boston University Medical Campus, 80 East Concord Street, Boston, Massachusetts. The meeting will start at 8 a.m. each day and will adjourn at 5:30 p.m. on June 18, and at 1:30 p.m. on June 19. The meeting is open to the public.

The purpose of the Committee is to provide advice and make recommendations to the Secretary of Veterans Affairs on proposed research studies, research plans and research strategies relating to the health consequences of military service in the Southwest Asia theater of operations during the Gulf War.

The Committee will review VA program activities related to Gulf War Veterans' illnesses and updates on relevant scientific research published since the last Committee meeting. The session on June 18 will be devoted to discussions of imaging techniques currently in use to treat Gulf War Veterans, exposures to organophosphates, and updates on VA Gulf War research initiatives. The research presentations on June 19 will involve the immune system, magnetic resonance imaging, and alternative medical treatments (acupuncture, mindfulness, and Tai-Chi) for Gulf War Veterans. The session will also include discussion of Committee business and activities.

The meeting will include time reserved in the afternoon on both days for public comments. Public comments will be limited to five minutes each. A sign-up sheet will be made available for those who wish to speak and will be accommodated on a first-come, first-served basis. Individuals who speak are invited to submit a 1-2 page summary of their comments at the time of the meeting for inclusion in the official meeting record. Members of the public may also submit written statements for the Committee's review to Dr. Victor Kalasinsky, Designated Federal Officer, Department of Veterans Affairs, 810 Vermont Avenue NW., Washington, DC, or by email at victor.kalasinsky@va.gov. Any member of the public seeking additional information should contact Dr. Kalasinsky at (202) 443-5682.

Dated: May 18, 2012.
By Direction of the Secretary.
Vivian Drake,
Committee Management Officer.

[FR Doc. 2012-12574 Filed 5-23-12; 8:45 am]

BILLING CODE P